NATIONAL AERONAUTICS AND SPACE ADMINISTRATION

[Notice 00-063]

NASA Advisory Council (NAC), Aero-Space Technology Advisory Committee (ASTAC); Propulsion Systems Subcommittee; Meeting.

AGENCY: National Aeronautics and Space Administration.

ACTION: Notice of meeting.

SUMMARY: In accordance with the Federal Advisory Committee Act, Public Law 92-463, as amended, the National Aeronautics and Space Administration announces a NASA Advisory Council, Aero-Space Technology Advisory Committee, Propulsion Systems Subcommittee meeting.

DATES: Tuesday, June 27, 2000, 8 a.m. to 5 p.m. and Wednesday, June 28, 2000, 8 a.m. to 4 p.m.

ADDRESSES: National Aeronautics and Space Administration, John H. Glenn Research Center at Lewis Field, Building 86, Room 100, 21000 Brookpark Road, Cleveland, OH 44135.

FOR FURTHER INFORMATION CONTACT: Dr. Carol J. Russo, National Aeronautics and Space Administration, John H. Glenn Research Center at Lewis Field, 21000 Brookpark Road, Cleveland, OH 44135, 216/433-2965.

SUPPLEMENTARY INFORMATION: The meeting will be open to the public up to the seating capacity of the room. The agenda for the meeting is as follows:

—Overview

—Propulsion Systems Base R&T Program Review

—GPRA Milestones Review

It is imperative that the meeting be held on these dates to accommodate the scheduling priorities of the key participants.

Dated: May 30, 2000.
Matthew M. Crouch,
Advisory Committee Management Officer, National Aeronautics and Space Administration.

[FR Doc. 00-14038 Filed 6-5-00; 8:45 am]

BILLING CODE 7510-01-P